DEPARTMENT OF HEALTH AND HUMAN SERVICES

National Institutes of Health

Office of the Director, National Institutes of Health; Notice of Meeting

Pursuant to section 10(D) of the Federal Advisory Committee Act, as amended, notice is hereby given of a meeting of the National Science Advisory Board for Biosecurity.

The meeting will be open to the public, with attendance limited to space available. The meeting will also be videocast and can be accessed from the NIH Videocasting and Podcasting website (http://videocast.nih.gov/). Individuals planning to attend in person may preregister online at: https://osp.od.nih.gov/biotechnology/national-science-advisory-board-for-biosecurity-nsabb/. Preregistration will close at 12:00 noon Eastern Time (ET) on January 17, 2020. Individuals in attendance may also register onsite on the day of the meeting. Individuals who plan to attend and need special assistance, such as sign language interpretation or other reasonable accommodations, should notify the Contact Person listed below in advance of the meeting.

Name of Committee: National Science Advisory Board for Biosecurity.

Date: January 23-24, 2020.

Time: January 23, 2020, 12:30 p.m. to 5:00 p.m. (ET).

Agenda: The National Science Advisory Board for Biosecurity will discuss: (1) Considerations regarding security and public transparency when sharing information about research involving enhanced potential pandemic pathogens; (2) other business of the Board; and (3) a charge to the committee will be presented.

Place: Hyatt Regency Bethesda, 7400 Wisconsin Avenue, Bethesda, MD 20814.

Time: January 24, 2020, 9:00 a.m. (ET) to Adjournment.

Agenda: The National Science Advisory Board for Biosecurity will discuss: (1) Considerations regarding security and public transparency when sharing information about research involving enhanced potential pandemic pathogens; and (2) other business of the Board.

Place: Hyatt Regency Bethesda, 7400 Wisconsin Avenue, Bethesda, MD 20814.

Contact Person: Shayla Beckham, Management Program Analyst, Office of Science Policy, National Institutes of Health, 6705 Rockledge Drive, Suite 750, Bethesda, MD 20892-9606, 301-496-9838, shayla.beckham@nih.gov.

Any interested person may file written comments by forwarding the statement to the Contact Person listed on this notice.

Additional information about the meeting, including an agenda, will be posted at: https://osp.od.nih.gov/biotechnology/national-science-advisory-board-for-biosecurity-nsabb/ when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: December 19, 2019.
Melanie J. Pantoja,
Program Analyst, Office of Federal Advisory Committee Policy.

[FR Doc. 2019-27862 Filed 12-26-19; 8:45 am]

BILLING CODE 4140-01-P